DEPARTMENT OF HOUSING AND URBAN DEVELOPMENT

24 CFR Chapter IX

[Docket No. FR-5650-N-04]

Native American Housing Assistance and Self-Determination Act of 1996: Negotiated Rulemaking Committee Membership and First Meeting

AGENCY: Office of Assistant Secretary for Public and Indian Housing, HUD.

ACTION: Notice of membership and meeting of negotiated rulemaking committee.

SUMMARY: This notice announces the final list of committee members of the Indian Housing Block Grant Allocation Formula Negotiated Rulemaking Committee. The committee will negotiate a proposed rule to revise the allocation formula used under the Indian Housing Block Grant (IHBG) Program. In addition, this notice announces a two-day first meeting of the negotiated rulemaking committee.

DATES: The meeting will be held on Tuesday, August 27, 2013, and Wednesday, August 28, 2013. On each day, the session will begin at approximately 8:30 a.m., and adjourn at approximately 5 p.m.

ADDRESSES: The meeting will take place at the Grand Hyatt Hotel, 1750 Welton Street, Denver, Colorado 80202.

FOR FURTHER INFORMATION CONTACT: Rodger J. Boyd, Deputy Assistant Secretary for Native American Programs, Office of Public and Indian Housing, Department of Housing and Urban Development, 451 Seventh Street SW., Room 4126, Washington, DC 20410, telephone number 202-401-7914 (this is not a toll-free number). Hearing- or speech-impaired individuals may access this number via TTY by calling the toll-free Federal Relay Service at 1-800-877-8339.

SUPPLEMENTARY INFORMATION:

I. Background

The Native American Housing and Assistance and Self-Determination Act of 1996 (25 U.S.C. 4141 et seq.) (NAHASDA) changed the way that housing assistance is provided to Native Americans. NAHASDA eliminated several separate assistance programs and replaced them with a single block grant program, known as the Indian Housing Block Grant (IHBG) program. The regulations governing the IHBG formula allocation are codified in subpart D of part 1000 of HUD's regulations in title 24 of the Code of Federal Regulations. In accordance with section 106 of NAHASDA, HUD developed the regulations with active tribal participation using the procedures of the Negotiated Rulemaking Act of 1990 (5 U.S.C. 561-570).

Under the IHBG program, HUD makes assistance available to eligible Indian tribes for affordable housing activities. The amount of assistance made available to each Indian tribe is determined using a formula that was developed as part of the NAHASDA negotiated process. Based on the amount of funding appropriated for the IHBG program, HUD calculates the annual grant for each Indian tribe and provides this information to the Indian tribes. An Indian Housing Plan for the Indian tribe is then submitted to HUD. If the Indian Housing Plan is found to be in compliance with statutory and regulatory requirements, the grant is made.

II. The Indian Housing Block Grant Allocation Formula Negotiated Rulemaking Committee

Through this notice, HUD announces the establishment of its Indian Housing Block Grant Allocation Formula Negotiated Rulemaking Committee. The committee will negotiate a proposed rule to revise the allocation formula used for the IHBG Program. This notice announces the final list of negotiated rulemaking committee members.

On June12, 2013 at 78 FR 35178, HUD announced in the Federal Register the list of proposed members for the negotiated rulemaking committee, and requested additional public comment on the proposed membership.

III. Discussion of Public Comments Received on the June 12, 2013, Notice

The public comment period on the June 12, 2013, notice closed on July 12, 2013. HUD received three (3) public comments on the notice. This section presents a summary of the issues raised by the commenters on the June 12, 2013, notice, and HUD's responses to these issues.

Comment: Deirdre Food is nominated to be added to the Negotiated Rulemaking Committee.

HUD Response: Having met the requirements for nomination and membership on the Committee, Ms. Flood was added.

Comment: The proposed membership of committee does not include a representative from small tribes in California or Nevada. Two commenters made this same comment.

HUD Response: The addition of Ms. Flood from the Washoe Housing Authority now provides such representation.

IV. Final Membership of the Negotiated Rulemaking Committee

This section announces the final list of negotiated rulemaking committee members. In making the selections for membership on the negotiated rulemaking committee, HUD's goal was to establish a committee whose membership reflects a balanced representation of Indian tribes. In addition to the tribal members on the committee, there will be two HUD representatives on the negotiated rulemaking committee.

The final list of members of the Indian Housing Block Grant Allocation Formula Negotiated Rulemaking Committee is as follows:

Tribal Members

Jason Adams, Executive Director, Salish-Kootenai Housing Authority, Pablo, Montana.

Annette Bryan, Executive Director, Puyallup Nation Housing Authority, Tacoma, Washington.

Heather Cloud, Representative, Ho-Chunk Nation, Black River Falls, Wisconsin.

Gary Cooper, Executive Director, Cherokee Nation, Tahlequah, Oklahoma.

Pete Delgado, Executive Director, Tohono O'odham Housing Authority, Sells, Arizona.

Sami Jo Difuntorum, Executive Director, Siletz Tribal Housing Department, Siletz, Oklahoma.

Jason Dollarhide, 2nd Chief, Peoria Tribe of Indians of Oklahoma, Miami, Oklahoma.

Earl Evans, Tribal Councilor, Haliwa-Saponi Tribe, Hollister, North Carolina.

Deirdre Flood, Chairwoman, Washoe Housing Authority, Gardnerville, Nevada.

Karin Lee Foster, Legal Counsel, Yakama Nation Housing Authority, Toppenish, Washington.

Carol Gore, President/Chief Executive Officer, Cook Inlet Housing Authority, Anchorage, Alaska.

Lafe Allen Haugen, Executive Director, Northern Cheyenne Tribal Housing Authority, Lame Deer, Montana.

Richard Hill, General Manager, Mille Lacs Housing Authority, Onamia, Minnesota.

Leon Jacobs, Representative, Lumbee Tribe of North Carolina, Mystic, Connecticut.

Teri Nutter, Executive Director, Cooper River Basin Regional Housing Authority, Glennallen, Alaska.

Sam Okakok, Housing Director, Native Village of Barrow, Barrow, Alaska.

Diana Phair, Executive Director, Lummi Nation, Bellingham, Washington.

Michael Reed, Chief Executive Officer, Cocopah Indian Housing and Development, Somerton, Arizona.

S. Jack Sawyers, Special Projects Coordinator, Paiute Tribe of Utah, Cedar City, Utah.

Marty Shuravloff, Executive Director, Kodiak Island Housing Authority, Kodiak, Alaska.

Russell Sossamon, Executive Director, Choctaw Housing Authority, Hugo, Oklahoma.

Michael Thom, Vice Chairman, Karuk Tribe, Happy Camp, California.

Sharon Vogel, Executive Director, Cheyenne River Housing Authority, Eagle Butte, South Dakota.

Aneva Yazzie, Chief Executive Officer, Navajo Housing Authority, Window Rock, Arizona.

HUD Representatives

Sandra Henriquez, Assistant Secretary for Public and Indian Housing.

Rodger Boyd, Deputy Assistant Secretary for Native American Programs.

V. First Committee Meeting

The first meeting of the Indian Housing Block Grant Allocation Formula Negotiated Rulemaking Committee will be held on Tuesday, August 27, 2013, and Wednesday, August 28, 2013. On each day, the session will begin at approximately 8:30 a.m., and adjourn at approximately 5 p.m. The meetings will take place at the Grand Hyatt Hotel, 1750 Welton Street, Denver, Colorado 80202.

The meeting will be open to the public without advance registration. Public attendance may be limited to the space available. Members of the public may make statements during the meeting, to the extent time permits, and file written statements with the committee for its consideration. Written statements should be submitted to the address listed in the FOR FURTHER INFORMATION section of this notice.

VI. Future Committee Meetings

Decisions with respect to future meetings will be made at the first meeting and from time to time thereafter. Notices of all future meetings will be published in the Federal Register. HUD will make every effort to publish such notices at least 15 calendar days prior to each meeting.

Dated: July 19, 2013.
Sandra B. Henriquez,
Assistant Secretary for Public and Indian Housing.

[FR Doc. 2013-18176 Filed 7-29-13; 8:45 am]

BILLING CODE 4210-67-P